DEPARTMENT OF LABOR

Employment and Training Administration

[TA-W-63,584]

Nxstage Medical, Inc., Including On-Site Leased Workers From Microtech Staffing, Accountemps and JL Longo Staffing, LLC, Lawrence, MA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on July 3, 2008, applicable to workers of NxStage Medical, Inc., including on-site leased workers from Microtech Staffing and Accountemps, Lawrence, Massachusetts. The notice was published in the Federal Register on July 21, 2008 (73 FR 42370).

At the request of the State agency, the Department reviewed the certification for workers of the subject firm. The workers were engaged in the production of dialysis equipment and disposables.

New information shows that leased workers of JL Longo Staffing LLC were employed on-site at the Lawrence, Massachusetts location of NxStage Medical, Inc. The Department has determined that these workers were sufficiently under the control of the subject firm to be considered leased workers.

Based on these findings, the Department is amending this certification to include leased workers of JL Longo Staffing LLC working on-site at the Lawrence, Massachusetts location of the subject firm.

The intent of the Department's certification is to include all workers employed at NxStage Medical, Inc. who were adversely affected by a shift in production of dialysis equipment and disposables to Mexico.

The amended notice applicable to TA-W-63,584 is hereby issued as follows:

All workers of NxStage Medical, Inc., including on-site leased workers from Microtech Staffing, Accountemps and JL Longo Staffing LLC, Lawrence, Massachusetts, who became totally or partially separated from employment on or after June 23, 2007, through July 3, 2010, are eligible to apply for adjustment assistance under Section 223 of the Trade Act of 1974, and are also eligible to apply for alternative trade adjustment assistance under Section 246 of the Trade Act of 1974.

Signed at Washington, DC, this 22nd day of August 2008.
Richard Church,
Certifying Officer, Division of Trade Adjustment Assistance.

[FR Doc. E8-20349 Filed 9-2-08; 8:45 am]

BILLING CODE 4510-FN-P